DEPARTMENT OF THE INTERIOR

Bureau of Indian Affairs

25 CFR Parts 81 and 82

[BIA-2014-0006; K00103 12/13 A3A10; 134D0102DR-DS5A300000-DR.5A311.IA000113]

RIN 1076-AE93

Secretarial Election Procedures

AGENCY: Bureau of Indian Affairs, Interior.

ACTION: Proposed rule; Extension of comment period.

SUMMARY: This notice announces that the Department of the Interior will extend the comment period on the proposed amending regulations governing Secretarial elections and petitioning procedures to January 16, 2015.

DATES: Comments on the proposed rule published October 9, 2014 (79 FR 61021) must be received by January 16, 2015.

ADDRESSES: You may submit comments by any of the following methods:

—Federal rulemaking portal: http://www.regulations.gov. The rule is listed under the agency name “Bureau of Indian Affairs.” The rule has been assigned Docket ID: BIA-2014-0006.

—Email: laurel.ironcloud@bia.gov. Include “Part 81” in the subject line of the message.

—Mail or hand-delivery: Chief, Division of Tribal Government Services, Office of Indian Services, Bureau of Indian Affairs, Department of the Interior, 1849 C Street NW., Mail Stop 4513—MIB, Washington, DC 20240.

We cannot ensure that comments received after the close of the comment period (see DATES) will be included in the docket for this rulemaking and considered. Comments sent to an address other than those listed here will not be included in the docket for this rulemaking.

FOR FURTHER INFORMATION CONTACT: Ms. Laurel Iron Cloud, Chief, Division of Tribal Government Services, Central Office, Bureau of Indian Affairs at telephone: (202) 513-7641.

SUPPLEMENTARY INFORMATION: On October 9, 2014, we published a proposed rule amending 25 CFR parts 81 (Secretarial Elections) and 82 (Petitioning Procedures), combining them into one Code of Federal Regulations part at 25 CFR part 81. See 79 FR 61021. On October 20, 2014, we published a notice announcing three consultation sessions. See 79 FR 62587.

The proposed rule is available at: http://www.bia.gov/WhoWeAre/AS-IA/ORM/SecElections/index.htm.

Dated: December 10, 2014.
Kevin K. Washburn,
Assistant Secretary—Indian Affairs.

[FR Doc. 2014-29606 Filed 12-16-14; 8:45 am]

BILLING CODE 4310-4J-P